FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 19, 2019.

A. Federal Reserve Bank of Kansas City (Dennis Denney, Assistant Vice President) 1 Memorial Drive, Kansas City, Missouri 64198-0001:

1. The Melinda Mercer Revocable Trust and Kelly Brothers, A Business Trust, Melinda Mercer, Tulsa, Oklahoma, individually and as trustee; the Mel Mercer Revocable Trust, the Kelly Mercer Revocable Trust, and the Logan Mercer Revocable Trust, Mel Mercer, Tulsa, Oklahoma, individually and as trustee, Logan Mercer, Broken Arrow, Oklahoma, Kelly Mercer, Tulsa, Oklahoma, Brad Kelly, Dallas, Texas, the Raymond Lynn Fesperman and Susan K. Fesperman Trust, Raymond Lynn Fesperman, Tulsa, Oklahoma, as trustee, and Payton Fesperman, Tulsa, Oklahoma; to be approved as members of the Mercer-Kelly-Fesperman Family Group, Bristow, Oklahoma, and thereby acquire shares of Spirit Bankcorp, Inc., and indirectly acquire shares of SpiritBank, Tulsa, Oklahoma.

Board of Governors of the Federal Reserve System, July 3, 2019.
Yao-Chin Chao,
Assistant Secretary of the Board.

[FR Doc. 2019-14615 Filed 7-8-19; 8:45 am]

BILLING CODE P